DEPARTMENT OF ENERGY

Federal Energy Regulatory Commission

[Docket No. RP04-222-000]

Florida Gas Transmission Company Notice of Proposed Changes in FERC Gas Tariff

March 24, 2004.

Take notice that on March 19, 2004, Florida Gas Transmission Company (FGT) tendered for filing to become part of its FERC Gas Tariff, Third Revised Volume No. 1, the following tariff sheets, effective April 1, 2004:

3rd Revised Sixty-First Revised Sheet No. 8A

3rd Revised Fifty-Third Revised Sheet No. 8A.01

3rd Revised Fifty-Third Revised Sheet No. 8A.02

Fourteenth Revised Sheet No. 8A.04

3rd Revised Fifty-Sixth Revised Sheet No. 8B

3rd Revised Forty-Ninth Revised Sheet No. 8B.01

3rd Revised Sixth Revised Sheet No. 8B.02

FGT states that the tariff sheets listed above are being filed pursuant to section 27.A.2.b of the General Terms and Conditions of FGT's Tariff, which provides for flex adjustments to the Base FRCP. FGT explains that pursuant to the terms of section 27.A.2.b, a flex adjustment shall become effective without prior FERC approval provided that such flex adjustment does not exceed 0.50%, is effective at the beginning of a month, is posted on FGT's EBB at least five working days prior to the nomination deadline, and is filed no more than 60 and at least seven days before the proposed effective date. FGT asserts that the instant filing comports with these provisions and FGT has posted notice of the flex adjustment prior to the instant filing.

Any person desiring to be heard or to protest said filing should file a motion to intervene or a protest with the Federal Energy Regulatory Commission, 888 First Street, NE., Washington, DC 20426, in accordance with sections 385.214 or 385.211 of the Commission's rules and regulations. All such motions or protests must be filed in accordance with section 154.210 of the Commission's regulations. Protests will be considered by the Commission in determining the appropriate action to be taken, but will not serve to make protestants parties to the proceedings. Any person wishing to become a party must file a motion to intervene. This filing is available for review at the Commission in the Public Reference Room or may be viewed on the Commission's Web site at http://www.ferc.gov using the eLibrary. Enter the docket number excluding the last three digits in the docket number field to access the document. For assistance, please contact FERC Online Support at FERCOnlineSupport@ferc.gov or toll-free at (866) 208-3676, or TTY, contact (202) 502-8659. The Commission strongly encourages electronic filings. See 18 CFR 385.2001(a)(1)(iii) and the instructions on the Commission's Web site under the e-Filing link.

Linda Mitry,
Acting Secretary.

[FR Doc. E4-714 Filed 3-30-04; 8:45 am]

BILLING CODE 6717-01-P